DEPARTMENT OF COMMERCE

International Trade Administration

(A-489-807)

Certain Steel Concrete Reinforcing Bars from Turkey; Notice of Extension of Time Limits for Final Results of Antidumping Duty Administrative Review

AGENCY: Import Administration, International Trade Administration, Department of Commerce.

EFFECTIVE DATE: July 28, 2006.

FOR FURTHER INFORMATION CONTACT: Irina Itkin or Alice Gibbons, AD/CVD Operations, Office 2, Import Administration, International Trade Administration, U.S. Department of Commerce, 14th Street and Constitution Avenue, NW, Washington, DC 20230; telephone (202) 482-0656 and (202) 482-0498, respectively.

SUPPLEMENTARY INFORMATION:

Background

The Department of Commerce (the Department) published an antidumping duty order on certain steel concrete reinforcing bars (rebar) from Turkey on April 17, 1997. (See Antidumpting Duty Order: Certain Steel Concrete Reinforcing Bars From Turkey, 62 FR 18748). On May 27, 2005, the Department published a notice of initiation of an administrative review of the order on rebar from Turkey for the period April 1, 2004, through March 31, 2005. See 70 FR 30694. This review covers the following 15 producers/exporters: Colakoglu Metalurji A.S. and Colakoglu Dis Ticaret; Diler Demir Celik Endustrisi ve Ticaret A.S., Yazici Demir Celik Sanayi ve Turizm Ticaret A.S., and Diler Dis Ticaret A.S.; Ege Metal Demir Celik Sanayi ve Ticaret A.S.; Ekinciler Demir ve Celik Sanayi A.S. and Ekinciler Dis Ticaret A.S.; Habas Sinai ve Tibbi Gazlar Istihsal Endustrisi A.S.; Ilhanlar Rolling and Textile Industries, Ltd., Sti. and Ilhanlar Group; Intermet A.S.; Iskenderun Iron & Steel Works Co.; Koc Dis Ticaret A.S.; Kroman Celik Sanayi A.S.; Nurmet Celik Sanayi ve Ticaret A.S.; Nursan Celik Sanayi ve Haddecilik A.S.; Sozer Steel Works; Ucel Haddecilik Sanayi ve Ticaret A.S.; and the Yolbulan Group (Yolbulanlar Nak. ve Ticaret A.S., Yolbulan Metal Sanayi ve Ticaret A.S. and Yolbulan Dis Ticaret Ltd. Sti.). On May 5, 2006, the Department published the preliminary results of the administrative review of the antidumping duty order on rebar from Turkey. See Certain Steel Concrete Reinforcing Bars from Turkey; Preliminary Results and Partial Rescission of Antidumping Duty Administrative Review, 71 FR 26455 (May 5, 2006). The final results are currently due no later than September 5, 2006, the next business day after 120 days from publication of the preliminary results.

Extension of the Time Limit for Final Results of Administrative Review

Section 751(a)(3)(A) of the Tariff Act of 1930, as amended (the Act) requires the Department to make a final determination in an administrative review within 120 days after the date on which the preliminary determination is published. However, if it is not practicable to complete the review within this time period, section 751(a)(3)(A) of the Act allows the Department to extend the time limit for the final results to 180 days (or 300 days if the Department does not extend the time limit for the preliminary results) from the date of publication of the preliminary results.

In accordance with section 751(a)(3)(A) of the Act, and 19 CFR 351.213(h)(2), the Department finds that it is not practicable to complete the review within the original time frame because analysis of the issues presented in the case briefs, including issues related to the treatment of one company which did not respond to the Department's questionnaire, requires additional time. Because it is not practicable to complete this administrative review within the time limit mandated by section 751(a)(3)(A) of the Act and 19 CFR 351.213(h)(2), the Department is fully extending the time limit for completion of the final results of this administrative review to 180 days, until November 1, 2006.

This notice is issued and published in accordance with section 751(a)(3)(A) of the Act.

Dated: July 21, 2006.
Stephen J. Claeys,
Deputy Assistant Secretary for Import Administration.

[FR Doc. E6-12063 Filed 7-27-06; 8:45 am]

BILLING CODE 3510-DS-S